DEPARTMENT OF HEALTH AND HUMAN SERVICES

Health Resources and Services Administration

Public Health Service Act, Section 330(e)

AGENCY: Health Resources and Services Administration (HRSA), HHS.

ACTION: Notification of Exception to Competition—Replacement Grant.

SUMMARY: The Health Resources and Services Administration (HRSA) is issuing a non-competitive award to the Community Health Clinics of Northeast Texas (CHCNET) to avoid disruption and continue providing primary health care services to the population of Smith County, Texas, as an independent organization from the Northeast Texas Public Health District (NETPHD).

SUPPLEMENTARY INFORMATION: Intended Recipient of the Award: Community Health Clinics of Northeast Texas.

Amount of the Award: $326,308.00 (initial seven-month supplement, February 1, 2009, through August 31, 2009) and $601,308.00 (anticipated second 12-month supplement September 1, 2009, through August 31, 2010) to ensure ongoing clinical services to the target population.

Project Period: The current approved project period for NETPHD which will be supplemented began on September 1, 2007, and ends August 31, 2010; and its current budget period ends August 31, 2009.

Authority: This activity is under the authority of the Public Health Service Act, Section 330(e).

Catalogue of Federal Domestic Assistance Number: 93.224.

Justification for the Exception to Competition: Critical funding for Primary Health Care services to the population of Smith County, Texas, will be continued through a non-competitive award to Community Health Clinics of Northeast Texas as a new recipient. This non-competitive award is made because the previous grant recipient (NETPHD) serving this population notified HRSA that they would relinquish the grant and its responsibility to CHCNET. CHCNET has been responsible for the clinical operations of the program and will continue to operate the previously approved scope of project without significant changes in the organizational structure. This non-competitive replacement award will permit the new recipient to maintain the service delivery program and will ensure continuity of services. The initial supplemental funding will provide support for 7 months. Based on satisfactory performance, continued need, and availability of funds, a second and final supplemental award for these services will be awarded for 12 months. Further funding beyond August 31, 2010, for this service area will be competitively awarded during the next PHS Section 330 Health Center Program competing application process. The next available PHS Section 330 Health Center Program open competing cycle will occur in fiscal year 2009.

FOR FURTHER INFORMATION CONTACT: Monica Toomer, Chief, Southwest Branch, Central Mid-Atlantic Division, Bureau of Primary Health Care, Health Services and Resources Administration, 5600 Fishers Lane, Rockville, MD 20857; phone 301-594-4434; Monica.Toomer@hrsa.hhs.gov.

Dated: June 18, 2009.
Mary K. Wakefield,
Administrator.

[FR Doc. E9-14902 Filed 6-23-09; 8:45 am]

BILLING CODE 4165-15-P